DEPARTMENT OF THE INTERIOR

National Park Service

[NPS-WASO-NRNHL-14411; PPWOCRADI0, PCU00RP14.R50000]

National Register of Historic Places; Notification of Pending Nominations and Related Actions

Nominations for the following properties being considered for listing or related actions in the National Register were received by the National Park Service before October 26, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by December 5, 2013. Before including your address, phone number, email address, or other personal identifying information in your comment, you should be aware that your entire comment—including your personal identifying information—may be made publicly available at any time. While you can ask us in your comment to withhold your personal identifying information from public review, we cannot guarantee that we will be able to do so.

Dated: October 31, 2013.
J. Paul Loether,
Chief, National Register of Historic Places/National Historic Landmarks Program.

ALABAMA

Etowah County

Attalla Downtown Historic District, 3rd St. N., 4th St. N. & 5th Ave. S., Attalla, 13000893

Montgomery County

Grove Court Apartments, 559 S. Court St., Montgomery, 13000894

CONNECTICUT

Middlesex County

Ivoryton Historic District, Roughly bounded by Main, N. Main, Oak, Blake & Summit Sts., Park Rd. & Comstock Ave., Essex, 13000895

White-Overton-Callander House, 492 Main St., Portland, 13000896

New Haven County

Winchester Repeating Arms Company Historic District (Boundary Increase), Roughly bounded by Hamden Town Line, Mansfield, Hazel & Division Sts., Winchester Ave, Sherman Pky., New Haven, 13000898

FLORIDA

Duval County

Marabanong, 4747 River Point Rd., Jacksonville, 13000899

Indian River County

Treasure Hammock Ranch Farmstead, 8005 37th St., Vero Beach, 13000900

HAWAII

Honolulu County

Mother Waldron Playground, 537 Coral St., Honolulu, 13000901

IDAHO

Idaho County

Deep Creek Ranger Station, West Fork Ranger District, Bitterroot NF, Darby, MT., 13000902

MICHIGAN

Genesee County

Flint Journal Building, 200 E. 1st. St., Flint, 13000903

Gratiot County

Alma Downtown Historic District, Superior & State Sts., Alma, 13000904

Oakland County

Yamasaki, Minoru & Teruko, House, 3717 Lakecrest Dr. (Bloomfield Township), Birmingham, 13000905

Wayne County

First Federal Building, 1001 Woodward Ave., Detroit, 13000906

MISSOURI

Cole County

Moreau Drive Historic District, Moreau & Elmerine Drs., Fairmount Blvd., Oakwood Ave., Fairmount Ct., Lee St., Moreland Ave., Jefferson City, 13000907

NEW YORK

Kings County

Jewish Center of Coney Island, The, 2915 Ocean Pkwy., Brooklyn, 13000908

Kismet Temple, 92 Herkimer St., Brooklyn, 13000909

Orange County

Neversink Valley Grange No. 1530, 35 Grange Rd., Huguenot, 13000910

Rensselaer County

Theta Xi Fraternity Chapter House, 1490 Sage Ave., Troy, 13000911

Suffolk County

Guastavino, Rafael Jr., House, 143 Awixa Ave., Bay Shore, 13000912

Hallock, Noah, House, 172 Hallock Landing Rd., Rocky Point, 13000913

Quogue Cemetery, 58 Lamb Ave., Quogue, 13000914

Warren County

St. James Episcopal Church, 172 Ottawa St., Lake George, 13000915

SOUTH DAKOTA

Lincoln County

Hansen-Hagedorn Barn, 46954 272nd St., Tea, 13000916

McCook County

First Presbyterian Church, 351 N. Poplar, Bridgewater, 13000917

TEXAS

Guadalupe County

Dublin Plantation, Address Restricted, Kingsbury, 13000918

WYOMING

Lincoln County

Fossil Oregon Short Line Depot, Approx. .4 mi. WNW. of Jct. of US 30 & Cty. Rd. 300, Kemmerer, 13000919

A request for removal has been made for the following resources:

WYOMING

Lincoln County

Kemmerer Hotel, Pine and Sapphire, Kemmerer, 85003064

Weston County

Toomey's Mills, 500 W. Main St., Newcastle, 08001062

[FR Doc. 2013-27720 Filed 11-19-13; 8:45 am]

BILLING CODE 4312-51-P